NUCLEAR REGULATORY COMMISSION

[NRC-2013-0081]

Policy Statement on Adequacy and Compatibility of Agreement State Programs; Statement of Principles and Policy for the Agreement State Program

AGENCY: Nuclear Regulatory Commission.

ACTION: Policy statements; extension of comment period.

SUMMARY: The U.S. Nuclear Regulatory Commission (NRC) is extending the comment period of a notice that was published in the Federal Register on June 3, 2013 (78 FR 33122), requesting comments on proposed revisions to the NRC's policy statements on Agreement State Programs. Both the “Policy Statement on Adequacy and Compatibility of Agreement State Programs” and the “Statement of Principles and Policy for the Agreement State Programs” have been revised to add information on security of radioactive materials and incorporate changes in the NRC's policies and procedures since the last revision in 1997. The public comment period was scheduled to expire on August 19, 2013. However, the NRC received requests for extending the comment period from the Organization of Agreement States (OAS) and from the State of Florida. The parties requested the extension of the comment period so that the Agreement States would have time to discuss the proposed revisions during the OAS annual meeting before submitting their comments. The NRC agrees with these requests and the NRC has decided to extend the comment period until September 16, 2013.

DATES: The comment period has been extended and expires on September 16, 2013. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2013-0081. Address questions about NRC dockets to Carol Gallagher; telephone: 301-287-3442; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on accessing information and submitting comments, see “Accessing Information and Submitting Comments” in the SUPPLEMENTARY INFORMATION section of this document.

FOR FURTHER INFORMATION CONTACT: Lisa Dimmick, Office of Federal and State Materials and Environmental Management Programs, U.S. Nuclear Regulatory Commission, Washington, DC 20555-0001; telephone: 301-415-0694, email: Lisa.Dimmick@nrc.gov.

SUPPLEMENTARY INFORMATION:

I. Accessing Information and Submitting Comments

A. Accessing Information

Please refer to Docket ID NRC-2013-0081 when contacting the NRC about the availability of information for the proposed revisions of the policy statements. You may access publicly-available information related to the proposed revisions of the policy statements by any of the following methods:

• Federal Rulemaking Web site: Go to http://www.regulations.gov and search for Docket ID NRC-2013-0081.

• NRC's Agencywide Documents Access and Management System (ADAMS): You may access public documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The proposed revisions to the “Policy Statement on Adequacy and Compatibility of Agreement State Programs” are available in under ADAMS Accession No. ML12202B165. The proposed revisions to the “Statement of Principles and Policy for the Agreement State Program” are available under ADAMS Accession No. ML12202B157.

• NRC's PDR: You may examine and purchase copies of public documents at the NRC's PDR, Room O1-F21, One White Flint North, 11555 Rockville Pike, Rockville, Maryland 20852.

B. Submitting Comments

Please include Docket ID NRC-2013-0081 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Dated at Rockville, Maryland, this 9th day of August, 2013.
For the Nuclear Regulatory Commission.
Andrew L. Bates,
Acting Secretary for the Commission.

[FR Doc. 2013-19853 Filed 8-15-13; 8:45 am]

BILLING CODE 7590-01-P